DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 55859-55860, dated September 23, 2005), is amended to reflect the reorganization of the Financial Management Office, within the Office of the Chief Operating Officer Centers for Disease Control and Prevention.

Section C-B, Organization and Functions, is hereby amended as follows:

Revise the functional statement for the Financial Management Office (CAJ2), Office of the Chief Operating Officer (CAJ), as follows:

Delete in their entirety the titles and functional statements for the Cincinnati Accounting Section (CAJ222), the Debt and Property Management Section (CAJ223), and the General Ledger Section (CAJ224).

Delete the functional statements for the Financial Management Office (CAJ2), the Office of the Director (CAJ21), the Accounting Branch (CAJ22), the Budget Execution Branch (CAJ23), the Budget Oversight and Analysis Activity (CAJ232), the Budget Execution Services Activity (CAJ233), and the Financial Services Branch (CAJ26), and insert the following:

Financial Management Office (CAJE). (1) Provides leadership and coordination in the development and administration of the Centers for Disease Control and Prevention's (CDC) financial management policies; (2) develops budget submissions for CDC; (3) collaborates with the CDC Office of the Director (OD) in the development and implementation of long-range program and financing plans; (4) participates in budget reviews and hearings; (5) manages CDC's system of internal budgetary planning and control of funds; (6) develops and implements CDC-wide budgetary, accounting, and fiscal systems and procedures; (7) conducts CDC-wide manpower management (including productivity measurement) activities; and provides accounting services; (8) prepares financial reports; (9) serves as the focal point for domestic and international travel policy, procedures and interpretation; (10) provides legislation reference services; (11) plans, directs, and conducts internal quality assurance reviews; (12) analyzes data and makes recommendations to assure effective safeguards are in place to prevent fraud, waste and abuse; (13) assists in identifying or conducting special financial management training programs; and (14) maintains liaison with the Department of Health and Human Services (DHHS), Office of Management and Budget, Congress, and other government organizations on financial management matters.

Office of the Director (CAJE1). (1) Provides leadership and guidance in all areas of financial management; (2) serves as a CDC witness in budget hearings before Committees of Congress, OMB, and DHHS; (3) participates with top management in program planning and policy determinations, evaluations, conferences, and decisions, concerning financial resources; (4) provides a centralized source for current information on financial management legal and regulatory requirements governing the prevention and control of diseases; (5) advises the CDC Chief Operating Officer (OCOO) concerning reprogramming of funds; and (6) provides consultation and assistance in financial management to State and local health departments when requested by CDC officials.

Accounting Branch (CAJEB). (1) In conjunction with the Budget Execution Branch, develops accounting policies and procedures for CDC; (2) provides financial information for management purposes, effective control, and accountability of all funds, and suitable integration of CDC accounting with the accounting operations of the Department of the Treasury; (3) coordinates activities of the Accounting Branch with the Financial Management Office (FMO) Director, Budget Execution Branch, Budget Formulation and Public Health Policy Branch, Financial Services Branch, and Financial Systems Branch; (4) coordinates accounting policy issues with the DHHS Office of Financial Policy; (5) reviews and develops accounting systems to comply with requirements of DHHS and the General Accounting Office (GAO), and maintains an integrated system of accounts to meet the budgetary and accounting requirements of CDC; (6) reviews and implements the legal, accounting, and reporting requirements of the Chief Financial Officer's Act, the Federal Managers' Financial Integrity Act, the Principles of Federal Appropriation Law, and other regulatory requirements; (7) compiles all accounting information for the 5 Year Financial Management Plan, which provides CDC's financial management vision and objectives for the ensuing 5 year period; (8) develops strategies for employee training and professional development; and (9) compiles and submits the annual financial statements for inclusion in the DHHS Performance and Accountability Report.

Budget Execution Branch (CAJEC). (1) Promotes structured, ongoing partnerships between the Coordinating Centers/Coordinating Offices (CC/CO), national centers (NC), and FMO leadership, lead budget analysts, and budget execution staff; (2) provides leadership, consultation, guidance, and advice on budgetary matters for CDC through senior advisory leadership roles in partnership with FMO and the Directors of CC/COs and NCs; (3) provides submission and execution of the CDC budget within the framework of DHHS, OMB, and Congressional regulations, and policies of the CDC OD; (4) supports the functions provided by the Budget Oversight and Analysis Activity and the Budget Execution Services Activity; (5) provides leadership, consultation, guidance, and advice on financial policy and internal quality assurance matters for CDC; (6) develops, analyzes, and evaluates financial management policies, guidelines, and services which have CDC-wide impact; (7) works with personnel from all disciplines within CDC to identify the areas in which financial policy needs to be strengthened; (8) reviews, assesses, and recommends financial policy that is consistent with internal controls and the hierarchy of federal and DHHS policies and procedures; (9) ensures that resources are safeguarded against fraud, waste, and abuse, managed economically and efficiently, and that desired results are achieved; (10) reviews and independently assesses the soundness, adequacy, and application of budgetary and accounting controls; (11) reviews the reliability and integrity of financial and budget information, and the means used to identify, measure, classify, and report such information; (12) reviews the adequacy and effectiveness of systems and procedures having an impact on expenditures of funds and use of resources; and (13) assesses the reliability and accuracy of accounting and budgetary data and reports.

Budget Oversight and Analysis Activity (CAJEC2). (1) Supports the formulation and budget analysis oversight of CDC's annual budget, and provides agency-level and departmental budget execution functions and reporting; (2) oversees budget execution services provided to terrorism and stockpile, global health, workforce career development, and OD/OCOO functions; (3) develops standard operating procedures for budget processes, collaborates with the Chief Learning Officer and Corporate University to develop appropriate training for Budget Execution staff in the areas of budget analysis, accounting, program analysis, and business systems tools to develop proficiency in daily operations, and provides technical assistance in the interpretation of rules and regulations.

Budget Execution Services Activity (CAJEC3). (1) Provides budget execution services to CC/COs and NCs; (2) coordinates budget services through formalized and integrated communication with CC/COs and NC programs throughout its service offering to ensure effective and efficiently delivery of services to its customers; and (3) supports the formulation of NC annual budgets, develops spending plans, and manages budget execution activities ensuring funds are expended in accordance with Congressional intent.

Financial Services Branch (HCAJEE). (1) Develops and implements policies and procedures for all accounts payable, disbursement, and travel functions at CDC; (2) coordinates activities of the Financial Services Branch with FMO's Director, Accounting Branch, Budget Execution Branch, Budget Formulation and Public Health Policy Branch, and Financial Systems Branch; (3) coordinates the development of new financial systems to automate accounts payable and disbursement operations, and maintains and serves as the CDC focal point on all existing automated payment and disbursement systems; (4) reviews obligation documents and payment requests from a variety of private sector and government sources to determine the validity and legality of the requests, and provides electronic authorization to the Department of the Treasury to issue checks or electronic funds transfers for valid payment requests; (5) compiles and submits a variety of cash management and travel reports required by the Department of the Treasury and various other outside agencies; (6) acts as liaison with the NCs and outside customers to provide financial information, resolve problems, and provide training and information on payment, travel, and disbursement issues; (7) serves as the CDE subject matter expert on all financial matters dealing with international travel, assignments, and payments; and (8) analyzes internal reports to provide management information on topics such as interest expenses, workload, and various other performance indicators.

After the functional statement for Payment and Travel Services Section (CAJEES3), insert the following:

Budget Formulation and Public Health Policy Branch (CAJEG). (1) Provides leadership, consultation, guidance, and advice on matters of budget formulation, public health policy development, budget and performance integration, and Congressional appropriations for CDC and the Agency for Toxic Substances and Disease Registry; (2) develops the CDC budget in accordance with DHHS, OMB, and Congressional requirements, policies, procedures, and regulations; (3) maintains liaison with the Office of the Secretary, OMB, GAO, other government organizations, and Congress on financial management matters; (4) develops materials for, and participates in, budget reviews and hearings before DHHS, OMB, and Congress; (5) provides leadership, consultation, guidance, and advice in implementing performance systems, including the Performance Assessment and Rating Tool assessments, Key Performance Indicators, and CDC's Government Performance Results Act program; and (6) collaborates with other parts of CDC in the development and implementation of long-range program and financing plans.

Dated: September 2, 2005.
William H. Gimson,
Chief Operating Officer, Centers for Disease Control and Prevention (CDC).

[FR Doc. 05-20059 Filed 10-5-05; 8:45 am]

BILLING CODE 4160-18-M